POSTAL SERVICE

Sunshine Act Meetings; Correction

AGENCY: Postal Service™.

ACTION: Notice; correction.

SUMMARY: The Postal Service published a document in the Federal Register of January 24, 2025, concerning the schedule and agenda for a Meeting of the Board of Governors. The document contained incorrect dates.

FOR FURTHER INFORMATION CONTACT: Michael J. Elston, Secretary of the Board, U.S. Postal Service, 475 L'Enfant Plaza SW, Washington, DC 20260-1000. Telephone: (202) 268-4800.

SUPPLEMENTARY INFORMATION:

Correction

In the Federal Register of January 24, 2025, in FR Doc. 2025-01748, on page 8165, in the third column, correct the “Matters to be Considered” caption to read:

Matters To Be Considered

Meeting of the Board of Governors

Wednesday, February 5, 2025, at 9:00 a.m. (Closed)

1. Strategic Matters.

2. Financial and Operational Matters.

3. Compensation and Personnel Matters.

4. Administrative Items.

Thursday, February 6, 2025, at 10:00 a.m. (Open)

1. Remarks of the Chairman of the Board of Governors.

2. Remarks of the Postmaster General and CEO.

3. Approval of the Minutes.

4. Committee Reports.

5. Quarterly Financial Report.

6. Quarterly Service Performance Report.

7. Approval of Tentative Agenda for the May 8, 2025 Meeting.

8. Adjournment

Dated: January 28, 2025.
Michael J. Elston,
Secretary of the Board of Governors.

[FR Doc. 2025-02053 Filed 1-28-25; 4:15 pm]

BILLING CODE 7710-12-P